DEPARTMENT OF TRANSPORTATION

Federal Highway Administration.

Environmental Impact Statement: Weber County, UT

AGENCY: Federal Highway Administration (FHWA), DOT.

ACTION: Notice of intent.

SUMMARY: The FHWA is issuing this notice of intent to advise the public that an environmental impact statement will be prepared for a proposed highway project in Weber County, Utah.

FOR FURTHER INFORMATION CONTACT: Ms. Sandra Garcia, Federal Highway Administration, 2520 W. 4700 S. Suite 9A, Salt Lake City, Utah 84118-1847, Telephone: (801) 963-0182; E-mail: sandra.garcia@fhwa.dot.gov.

SUPPLEMENTARY INFORMATION: The FHWA, in cooperation with the Utah Department of Transportation (UDOT), will prepare an environmental impact statement (EIS) on a proposal to improve Riverdale Road, Utah State Route 26 (SR-26) from I-15 to Washington Boulevard, in Ogden, Utah. The proposed improvement will involve the reconstruction of the existing SR-26 through the cities of Roy, Riverdale, South Ogden and Ogden for a distance of about 5.3 kilometers (3.3 miles).

Improvements to the corridor are considered necessary to provide for the existing and projected traffic demands. Also, included in this proposal is the replacement of the existing Riverdale Road Interchange bridges over I-84 and I-15. Alternatives under consideration include (1) taking no action, (2) using alternate travel modes, (3) traffic signal and lane striping modifications, and (4) widening the existing 4 lane roadway to 6 lanes.

Letters describing the proposed action and soliciting comments will be sent to appropriate Federal, State, and local agencies, and to private organizations and citizens who have previously expressed or are known to have interest in this proposal. A series of public meetings will be held in the proximity of the project starting April 2002. In addition, a public hearing will be held. Public notice will be given of the time and place of the meeting and hearing. The draft EIS will be available for public and agency review and comment prior to the public hearing.

To ensure that the full range of issues related to this proposed action are addressed and all significant issues identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program.)
Issued on: March 14, 2002.
William R. Gedris,
Structural/Environmental Engineer, Salt Lake City, Utah.

[FR Doc. 02-6685 Filed 3-15-02; 8:45 am]

BILLING CODE 4910-22-M